FEDERAL MINE SAFETY AND HEALTH REVIEW COMMISSION

29 CFR Part 2700

Procedural Rules

AGENCY: Federal Mine Safety and Health Review Commission.

ACTION: Advanced notice of proposed rulemaking; extension of comment period.

SUMMARY: The Federal Mine Safety and Health Review Commission (the “Commission”) previously published, on September 2, 2008, an advanced notice of proposed rulemaking seeking suggestions for improving its procedures for processing requests for relief from default. The notice provided that the comment period would end on November 3, 2008. A request was made that the comment period be extended to November 17, and the Commission has agreed to do so.

DATES: Comments must be submitted on or before November 17, 2008.

ADDRESSES: Comments and questions may be mailed to Michael A. McCord, General Counsel, Office of the General Counsel, Federal Mine Safety and Health Review Commission, 601 New Jersey Avenue, NW., Suite 9500, Washington, DC 20001, or sent via facsimile to 202-434-9944.

FOR FURTHER INFORMATION CONTACT: Michael A. McCord, General Counsel, Office of the General Counsel, 601 New Jersey Avenue, NW., Suite 9500, Washington, DC 20001; telephone 202-434-9935; fax 202-434-9944.

SUPPLEMENTARY INFORMATION: On September 2, 2008, the Commission published an advanced notice of proposed rulemaking seeking suggestions for improving its procedures for processing requests for relief from default and reducing the number of cases in which a party seeks relief before the Commission after default. 73 FR 51256. The notice provided that the comment period would end on November 3, 2008. The Commission received a request that the comment period be extended to November 17. The Commission has agreed to extend the comment period in order to increase the opportunity of the interested public to provide any comments or suggestions on the Commission's procedures for processing requests for relief from default. Comments on the proposed rules must be submitted on or before November 17, 2008.

Dated: October 15, 2008.
Michael F. Duffy,
Chairman, Federal Mine Safety and Health Review Commission.

[FR Doc. E8-24994 Filed 10-20-08; 8:45 am]

BILLING CODE 6735-01-P